Title 3—

The President

Proclamation 9964 of November 8, 2019

National Apprenticeship Week, 2019

By the President of the United States of America

A Proclamation

Our Nation's robust economy continues to flourish, creating new opportunities for Americans and securing our continued dominance of global markets. As President, I have reduced tax burdens and eliminated unnecessary regulations, producing the lowest unemployment rate in 50 years and more job openings than there are job seekers for 19 months in a row. My Administration is committed to helping all Americans take advantage of this historically strong job market and secure lasting prosperity by ensuring they have access to skills-training that will enable them to launch successful careers in any industry. As we observe National Apprenticeship Week, we celebrate the growing optimism of workers across our country and strengthen our resolve to continue empowering our workers to achieve the American Dream.

Encouraging the creation and expansion of apprenticeships is a cornerstone of my commitment to helping improve employment prospects for students and workers. My Administration continues to make unprecedented investments to ensure apprenticeships remain accessible to all Americans, allocating more than $300 million to that mission this year alone. We awarded nearly $184 million to the Scaling Apprenticeship Through Sector-Based Strategies grant program to encourage private-public partnerships in high-growth industries, including information technology, advanced manufacturing, and healthcare. We have also invested $160 million to expand the number of apprentices in Registered Apprenticeship programs nationwide, helping to increase the number and diversity of apprentices in every State.

Through workplace and classroom education, apprentices gain valuable knowledge and credentials, drastically improving their future career trajectory. Apprenticeship programs enable Americans to simultaneously earn and learn while avoiding burdensome student loans. They also guarantee American companies access to the skilled employees they need to accelerate growth and innovation. We have achieved great success increasing the availability of these invaluable programs, with 240,000 new apprentices hired and 3,300 new programs launched just last year.

I am determined to build upon our economic successes and encourage business leaders, industry experts, and educational institutions to seize the opportunity to expand career-changing apprenticeship programs. I have called on the private sector to invest in the education and skills training of their future and current workers so that all Americans are prepared for the jobs of today and tomorrow. To date, more than 360 companies have committed to investing in over 14 million students and workers through our Pledge to America's Workers. My Administration is also developing standards for industry-recognized apprenticeship programs, which will assist workers in obtaining the knowledge they need to secure family-sustaining careers by taking advantage of high-quality, demand-driven opportunities. Additionally, we are supporting the growth of youth apprenticeship programs that combine academic and technical classroom instruction with work experience and increasing awareness among middle and high school students about the many benefits of apprenticeships.

This week, we recommit our efforts to fostering greater opportunity for current and future workers by supporting expanded access to apprenticeships. By increasing training and educational programs, we will renew our Nation's workforce and help hardworking Americans create a brighter future for themselves and their families while further strengthening our robust economy.

NOW, THEREFORE, I, DONALD J. TRUMP, President of the United States of America, by virtue of the authority vested in me by the Constitution and the laws of the United States, do hereby proclaim November 11 through November 17, 2019, as National Apprenticeship Week.

IN WITNESS WHEREOF, I have hereunto set my hand this eighth day of November, in the year of our Lord two thousand nineteen, and of the Independence of the United States of America the two hundred and forty-fourth.

[FR Doc. 2019-24875

Filed 11-13-19; 11:15 am]

Billing code 3295-F0-P